ENVIRONMENTAL PROTECTION AGENCY

[FRL-8525-2]

Gulf of Mexico Program Citizens Advisory Committee Meeting

AGENCY: Environmental Protection Agency (EPA).

ACTION: Notice of meeting.

SUMMARY: Under the Federal Advisory Committee Act (Pub. L. 92-463), EPA gives notice of a meeting of the Gulf of Mexico Program (GMP) Citizens Advisory Committee (CAC).

For information on access or services for individuals with disabilities, please contact Gloria Car, U.S. EPA, at (228) 688-2421 or car.gloria@epa.gov. To request accommodation of a disability, please contact Gloria Car, preferably at least 10 days prior to the meeting, to give EPA as much time as possible to process your request.

DATES: The meeting will be held on Wednesday, February 27 from 8:30 a.m. to 5 p.m. and Thursday, February 28, 2008, from 8:30 a.m. to 12 p.m.

ADDRESSES: The meeting will be held at the Louisiana Universities Marine Consortium, DeFelice Marine Center, 8124 Highway 56, Chauvin, LA 70344.

FOR FURTHER INFORMATION CONTACT: Gloria D. Car, Designated Federal Officer, Gulf of Mexico Program Office, Mail Code EPA/GMPO, Stennis Space Center, MS 39529-6000 at (228) 688-2421.

SUPPLEMENTARY INFORMATION: The proposed agenda includes the following topics: Gulf of Mexico Alliance Updates; Discussions of Citizens Advisory Committee involvement in Gulf Alliance activities; Presentation on Sustainable Fisheries in Agriculture; Presentation on Hypoxia in the Gulf Coast; Citizens Advisory Committee membership status; Field trip to a USDA facility to examine coastal sugarcane production practices and to the Terrebonne Levee & Conservation District to review hurricane and flood protection measure in the coastal Louisiana area.

The meeting is open to the public.

Dated: January 29, 2008.
Gloria D. Car,
Designated Federal Officer.

[FR Doc. E8-2096 Filed 2-4-08; 8:45 am]

BILLING CODE 6560-50-P